DEPARTMENT OF ENERGY

Federal Energy Regulatory Commission

[Docket No. RP01-441-000]

Colorado Interstate Gas Company; Notice of Tariff Filing

June 6, 2001.

Take notice that, on May 31, 2001, Colorado Interstate Gas Company (CIG) tendered for filing of as part of its FERC Gas Tariff, First Revised Volume No. 1, Twenty-first Revised Sheet No. 11A, with an effective date of July 1, 2001.

CIG states that the tariff sheets reflects an increase in its fuel reimbursement percentage for Lost, Unaccounted-For and Other Fuel Gas from 1.07% to 1.30% effective July 1, 2001.

CIG states that copies of this filing have been served on CIG's jurisdictional customers and public bodies, and that the filing is available for public inspection at CIG's offices in Colorado Springs, Colorado.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-14689 Filed 6-11-01; 8:45 am]

BILLING CODE 6717-01-M